DEPARTMENT OF ENERGY

Notice of Request for Information (RFI) on Integrating Electric Vehicles Onto the Electric Grid

AGENCY: Vehicle Technologies Office, Office of Energy Efficiency and Renewable Energy, Department of Energy (DOE).

ACTION: Request for information (RFI).

SUMMARY: The U.S. Department of Energy (DOE) invites public comment on its Request for Information (RFI) number DE-FOA-0002528 regarding the Office of Energy Efficiency & Renewable Energy's (EERE) and Office of Electricity's (OE) Request for Information on Integrating Electric Vehicles onto the Electric Grid. The purpose of this RFI is to solicit feedback from industry, academia, research laboratories, government agencies, and other stakeholders on issues related to integrating electric vehicles onto the grid. EERE and OE are specifically interested in information directed at the report requirements as listed in Section 137 of the Energy Act of 2020.

DATES: Responses to the RFI must be received by July 23, 2021.

ADDRESSES: Interested parties are to submit comments electronically to VTO@ee.doe.gov. Include “Vehicle to Grid RFI” in the subject line of the email. Responses must be provided as attachments to an email. Only electronic responses will be accepted. The complete RFI document is located at https://eere-exchange.energy.gov/.

FOR FURTHER INFORMATION CONTACT: Questions may be addressed to VTO@ee.doe.gov or to Lee Slezak at 202-586-2335. Further instruction can be found in the RFI document posted on EERE Exchange at https://eere-exchange.energy.gov/.

SUPPLEMENTARY INFORMATION: The purpose of this RFI is to solicit feedback from industry, academia, research laboratories, government agencies, and other stakeholders on issues related to integrating electric vehicles onto the grid. DOE is specifically interested in information directed at the report requirements as listed in Section 137 of the Energy Act of 2020 (Pub. L. 116-260). Feedback is requested in the following categories outlined in the RFI: (1) Evaluation of the use of electric vehicles to maintain the reliability of the electric grid, (2) impact of grid integration on electric vehicles, (3) impacts to the electric grid of increased penetration of electric vehicles, (4) technology needed to achieve bi-directional power flow on the distribution grid, and (5) cybersecurity challenges and needs associated with electrifying the transportation sector. Specific questions can be found in the RFI. The RFI is available at: https://eere-exchange.energy.gov/.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority: This document of the Department of Energy was signed on June 10, 2021, by David Howell, Acting Director, Vehicle Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 10, 2021.
Treena V. Garrett,
Federal Register Liaison Officer, U.S. Department of Energy.

[FR Doc. 2021-12670 Filed 6-15-21; 8:45 am]

BILLING CODE 6450-01-P